DEPARTMENT OF COMMERCE

National Oceanic and Atmospheric Administration

Agency Information Collection Activities; Submission to the Office of Management and Budget (OMB) for Review and Approval; Comment Request; Nomination Process for National Marine Sanctuaries

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 30, 2024 during a 60-day comment period. This notice allows for an additional 30 days for public comments.

Agency: National Oceanic & Atmospheric Administration (NOAA), Commerce.

Title: Nomination Process for National Marine Sanctuaries.

OMB Control Number: 0648-0682.

Form Number(s): None.

Type of Request: Regular submission, revision and extension of a current information collection.

Number of Respondents: 7.

Average Hours per Response: 115 hours per nomination; 8 hours for additional information.

Total Annual Burden Hours: 591.

Needs and Uses: This request is for a revision and extension of an existing information collection necessary to provide the American public an opportunity to nominate marine areas which the National Oceanic and Atmospheric Administration (NOAA) may consider for designation as a national marine sanctuary, under the National Marine Sanctuaries Act (NMSA). The revision adds a Request for Additional Information to accurately reflect the burden imposed by requesting follow-up information.

National marine sanctuary regulations provide that the public can submit areas of the marine and Great Lakes environments for consideration by NOAA as a national marine sanctuary through the sanctuary nomination process (15 CFR 922.12). Persons wanting to submit nominations for consideration should submit information on the qualifying criteria and management considerations for the site to be nominated. The Office of National Marine Sanctuaries reviews the submissions, which could result in the nomination being added to an inventory of areas that NOAA may consider for sanctuary designation at some point in the future. Sanctuary designation is a separate public process that would be conducted pursuant to the requirements of the National Marine Sanctuaries Act, and all other applicable laws. This proposed information collection is for national marine sanctuary nominations received pursuant to NOAA regulations that provide that the public may nominate special places of the marine environment through the sanctuary nomination process at 15 CFR 922.12.

Affected Public: Individuals, non-profit institutions; Federal, State, local, government, Native Hawaiian organizations; business or other for-profit organizations.

Frequency: On occasion.

Respondent's Obligation: Required to Obtain or Retain Benefits.

Legal Authority: 16 U.S.C. 1431 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0682.

Sheleen Dumas,
Departmental PRA Clearance Officer, Office of the Under Secretary for Economic Affairs, Commerce Department.

[FR Doc. 2024-23436 Filed 10-9-24; 8:45 am]

BILLING CODE 3510-NK-P